DEPARTMENT OF ENERGY

Federal Energy Regulatory Commission

[Docket No. EL19-83-000]

City of Lubbock, Acting by and Through Its Municipally Owned Electric Utility Lubbock Power & Light v. Public Service Company of Colorado Southwestern Public Service Company; Notice of Complaint

Take notice that on July 2, 2019, pursuant to sections 206 and 306 of the Federal Power Act (FPA), 16 U.S.C. 824e, 825e, and Rules 206 and 212, of the Federal Energy Regulatory Commission's (Commission) Rules of Practice and Procedure, 18 CFR 385.206 and 385.212, City of Lubbock (Complainant), acting by and through its municipally owned electric utility, Lubbock Power & Light (LP&L), filed a formal complaint against Public Service Company of Colorado and Southwestern Public Service Company (SPS) (collectively Respondents) alleging that SPS's Wholesale Distribution Service rate as applied to LP&L is unjust, unreasonable and unduly discriminatory, all as more fully explained in the Complaint.

LP&L certifies that copies of the complaint were served on the contacts for Public Service Company of Colorado and SPS as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on July 22, 2019.

Dated: July 3, 2019.
Kimberly D. Bose,
Secretary.

[FR Doc. 2019-14672 Filed 7-9-19; 8:45 am]

BILLING CODE 6717-01-P